DEPARTMENT OF ENERGY

Federal Energy Regulatory Commission

[Docket Nos. RP04-251-001, RP04-248-001]

El Paso Natural Gas Company; Notice of Compliance Filing

January 25, 2005.

Take notice that on January 14, 2005, El Paso Natural Gas Company (El Paso) submitted a compliance filing pursuant to Commission Order dated December 20, 2004 in the above listed proceedings. El Paso tendered for filing as part of its FERC Gas Tariff, Second Revised Volume No. 1A the tariff sheets listed in Appendix A to the filing, to become effective February 20, 2005.

El Paso states that the tariff sheets implement the pro forma tariff sheets approved by the Commission providing for strained and critical operating conditions procedures that were included as part of the settlement filed in these proceedings.

El Paso states that copies of the filing were served on parties on the official service list in the above-captioned proceedings.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant and all parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Magalie R. Salas,
Secretary.

[FR Doc. E5-380 Filed 2-1-05; 8:45 am]

BILLING CODE 6717-01-P